SECURITIES AND EXCHANGE COMMISSION

[File No. 500-1]

Polar Petroleum Corp.; Order of Suspension of Trading

June 10, 2013.

It appears to the Securities and Exchange Commission that there is a lack of current and accurate information concerning the securities of Polar Petroleum Corp. (“Polar”) because of questions regarding the adequacy and accuracy of assertions by Polar, and by others, to investors in press releases and promotional material concerning, among other things, the company's assets, operations, and financial condition. Polar is a Nevada corporation based in Anchorage, Alaska; it is dually quoted on the OTCBB and OTC Link under the symbol POLR.

The Commission is of the opinion that the public interest and the protection of investors require a suspension of trading in the securities of the above-listed company.

Therefore, it is ordered, pursuant to Section 12(k) of the Securities Exchange Act of 1934, that trading in the securities of the above-listed company is suspended for the period from 9:30 a.m. EDT on June 10, 2013 through 11:59 p.m. EDT on June 21, 2013.

By the Commission.
Jill M. Peterson,
Assistant Secretary.

[FR Doc. 2013-14027 Filed 6-10-13; 11:15 am]

BILLING CODE 8011-01-P